DEPARTMENT OF HEALTH AND HUMAN SERVICES

Centers for Disease Control and Prevention

[Docket No. CDC-2022-0062]

Advisory Committee on Immunization Practices (ACIP); Amended Notice of Meeting

AGENCY: Centers for Disease Control and Prevention, Department of Health and Human Services (HHS).

ACTION: Notice.

SUMMARY: In accordance with the Federal Advisory Committee Act, the Centers for Disease Control and Prevention (CDC) announces the following meeting of the Advisory Committee on Immunization Practices (ACIP). This meeting is open to the public. Time will be available for public comment.

DATES: The meeting will be held on June 22, 2022, from 10:00 a.m. to 5:10 p.m., EDT, and June 23, 2022, from 10:00 a.m. to 5:00 p.m., EDT (times subject to change). The docket is currently open to receive written comments. Written comments must be received on or before June 23, 2022.

SUPPLEMENTARY INFORMATION: Notice is hereby given of a change in the meeting of the Advisory Committee on Immunization Practices (ACIP); June 22, 2022, from 10:00 a.m. to 5:00 p.m., EDT, and June 23, 2022, from 10:00 a.m. to 2:00 p.m., EDT (times subject to change), in the original Federal Register notice.

The virtual meeting was published in the Federal Register on Tuesday, May 10, 2022, Volume 87, Number 90, pages 28013-28014.

The virtual meeting is being amended to change the times to June 22, 2022, from 10:00 a.m. to 5:10 p.m., EDT, and June 23, 2022, from 10:00 a.m. to 5:00 p.m., EDT (times subject to change), and to update the matters to be considered, which should read as follows:

Matters To Be Considered: The agenda will include discussions on influenza vaccine; pneumococcal vaccines; measles, mumps, rubella (MMR) vaccine; COVID-19 vaccines; meningococcal vaccines; respiratory syncytial virus vaccine; Chikungunya vaccines; and human papillomavirus vaccine. Recommendation votes on influenza vaccine, pneumococcal vaccine, MMR vaccine, and the use of Moderna COVID-19 vaccine in children ages 6 through 17 years are scheduled. A Vaccines for Children vote(s) is scheduled on pneumococcal vaccine and is possible on MMR vaccine. Agenda items are subject to change as priorities dictate. For more information on the meeting agenda, visit https://www.cdc.gov/vaccines/acip/meetings/index.html. The meeting will be webcast live via the World Wide Web; for more information on ACIP, visit the ACIP website: https://www.cdc.gov/vaccines/acip/index.html.

FOR FURTHER INFORMATION CONTACT: Stephanie Thomas, ACIP Committee Management Specialist, Centers for Disease Control and Prevention, National Center for Immunization and Respiratory Diseases, 1600 Clifton Road NE, Mailstop H24-8, Atlanta, Georgia 30329-4027; Telephone: 404-639-8367; Email: ACIP@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2022-14713 Filed 7-8-22; 8:45 am]

BILLING CODE 4163-18-P